DEPARTMENT OF EDUCATION

Historically Black Colleges and Universities Capital Financing Advisory Board

AGENCY: Historically Black Colleges and Universities Capital Financing Advisory Board, Department of Education (Department), Office of Postsecondary Education (OPE).

ACTION: Notice of an open meeting.

SUMMARY: This notice sets forth the agenda, time, and instructions for how to access or attend the meeting of the Historically Black Colleges and Universities Capital Financing Advisory Board (Board). This notice provides information about the meeting to members of the public who may be interested in attending and instructions for how to provide written comment. Notice of this meeting is required by Section 1009(a)(2) of 5 U.S.C. chapter 10 (Federal Advisory Committees).

DATES: The Board will hold a hybrid meeting on November 13, 2023, from 10:00 a.m. to 12:30 p.m. EST.

FOR FURTHER INFORMATION CONTACT: Donald Watson, Executive Director/Designated Federal Official, U.S. Department of Education, Office of Postsecondary Capital Financing, 400 Maryland Avenue SW, Washington, DC 20202; telephone (202) 453- 6166, or email donald.watson@ed.gov.

SUPPLEMENTARY INFORMATION:

Statutory Authority and Function: The Board is established by 20 U.S.C. 1066f. The Board is also governed by 5 U.S.C. chapter 10 (Federal Advisory Committees), which sets forth standards for the formation and use of advisory committees. The purpose of this Board is to advise the Secretary of Education (Secretary) and the designated bonding authority on the most effective and efficient ways to implement construction financing on the campuses of Historically Black Colleges and Universities (HBCUs). The Board also advises Congress regarding progress made in implementing the HBCU Capital Financing Program.

Meeting Agenda: The meeting agenda will include roll call; an update from the Executive Director of the HBCU Capital Financing Program; a discussion regarding several recommendations from the Board to the Secretary and to Congress; the Board may vote on those recommendations, and a discussion regarding dates and locations for meetings that will be held during calendar year 2024. The public comment period will begin immediately following the discussion of meeting dates and locations.

Instructions for Accessing and Attending the Meeting

Individuals can attend the meeting in person at 400 Maryland Ave. SW, 1st Floor, Washington, DC, Lyndon Baines Johnson Auditorium. Individuals attending virtually must register online at https://ed-gov.zoomgov.com/webinar/register/WN_A3GrX6U_QASIFA-yVWC_bQ any time before the meeting begins on November 13, 2023 or join using an H.323/SIP room system:

H.323: 161.199.138.10 (U.S. West) or 161.199.136.10 (U.S. East).

Meeting ID: 160 344 0326.

Passcode: 080503.

SIP: 1603440326@sip.zoomgov.com.

Passcode: 080503.

Public Comment: Members of the public interested in submitting written comments may do so via email to Donald Watson donald.watson@ed.gov no later than 11:59 p.m. Eastern Time (ET) on November 9, 2023. Please note that written comments should pertain to the work of the Board.

Reasonable Accommodations: The meeting is accessible to individuals with disabilities. If you will need an auxiliary aid or service for the meeting (e.g., interpreting service, assistive listening device, or materials in an alternate format), please notify the contact person listed in this notice no later than two weeks before the meeting date. Although we will attempt to meet a request received after that date, we may not be able to make available the requested auxiliary aid or service because of insufficient time to arrange it.

Access to Records of the Meeting: The Department will post the official minutes of this meeting on the Resources—Historically Black College and University Capital Financing Program website, https://www2.ed.gov/programs/hbcucapfinance/resources.html, no later than 60 days after the meeting. Pursuant to 5 U.S.C. 1009(b), the public may also inspect the meeting materials and other Board records at 400 Maryland Avenue SW, Washington, DC 20202, by emailing Donald Watson at donald.watson@ed.gov, or calling (202) 453-6166 to schedule an appointment.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: 20 U.S.C. 1066f.

Nasser H. Paydar,
Assistant Secretary, Office of Postsecondary Education.

[FR Doc. 2023-23771 Filed 10-26-23; 8:45 am]

BILLING CODE 4000-01-P